DEPARTMENT OF ENERGY

Federal Energy Regulatory Commission

Combined Notice of Filings #1

Take notice that the Commission received the following electric corporate filings:

Docket Numbers: EC20-66-000.

Applicants: Northern States Power Company, a Minnesota corporation, Crowned Ridge Wind II, LLC.

Description: Supplement to May 8, 2020 Application for Authorization Under Section 203 of the Federal Power Act, et al. of Northern States Power Company, a Minnesota corporation, et al.

Filed Date: 6/24/20.

Accession Number: 20200624-5215.

Comments Due: 5 p.m. ET 7/6/20.

Docket Numbers: EC20-77-000.

Applicants: Blooming Grove Wind Energy Center LLC.

Description: Application for Authorization Under Section 203 of the Federal Power Act, et al. of X Blooming Grove Wind Energy Center LLC.

Filed Date: 6/26/20.

Accession Number: 20200626-5273.

Comments Due: 5 p.m. ET 7/17/20.

Take notice that the Commission received the following electric rate filings:

Docket Numbers: ER10-2253-015; ER10-3319-019.

Applicants: Astoria Energy LLC, Astoria Energy II LLC.

Description: Triennial Compliance Filing and Notice of Non-Material Change in Status of Astoria Energy LLC, et al.

Filed Date: 6/26/20.

Accession Number: 20200626-5270.

Comments Due: 5 p.m. ET 8/25/20.

Docket Numbers: ER10-2527-009; ER10-2532-015; ER10-2533-009; ER20-1610-001; ER10-2535-011.

Applicants: Allegheny Ridge Wind Farm, LLC, Crescent Ridge LLC, GSG, LLC, Lone Tree Wind, LLC, Mendota Hills, LLC.

Description: Updated Market Power Analysis for the Northeast Region of Allegheny Ridge Wind Farm, LLC, et al.

Filed Date: 6/25/20.

Accession Number: 20200625-5217.

Comments Due: 5 p.m. ET 8/24/20.

Docket Numbers: ER10-3097-011.

Applicants: Bruce Power Inc.

Description: Updated Market Power Analysis for the Northeast Region of Bruce Power Inc.

Filed Date: 6/25/20.

Accession Number: 20200625-5214.

Comments Due: 5 p.m. ET 8/24/20.

Docket Numbers: ER12-1563-007; ER12-1562-007; ER11-3642-020.

Applicants: Cayuga Operating Company, LLC, Somerset Operating Company LLC, Tanner Street Generation, LLC.

Description: Updated Market Power Analysis for the Northeast Region of Cayuga Operating Company, LLC, et al.

Filed Date: 6/26/20.

Accession Number: 20200626-5255.

Comments Due: 5 p.m. ET 8/25/20.

Docket Numbers: ER15-572-008.

Applicants: New York Transco, LLC, New York Independent System Operator, Inc.

Description: Compliance filing: NY Transco compliance—cost allocation mechanism transmission facilities to be effective 4/8/2019.

Filed Date: 6/26/20.

Accession Number: 20200626-5121.

Comments Due: 5 p.m. ET 7/17/20.

Docket Numbers: ER16-2462-009.

Applicants: Oregon Clean Energy, LLC.

Description: Triennial Compliance filing of Oregon Clean Energy, LLC.

Filed Date: 6/26/20.

Accession Number: 20200626-5259.

Comments Due: 5 p.m. ET 8/25/20.

Docket Numbers: ER17-2364-004.

Applicants: St. Joseph Energy Center, LLC.

Description: Triennial Compliance filing of St. Joseph Energy Center, LLC.

Filed Date: 6/26/20.

Accession Number: 20200626-5260.

Comments Due: 5 p.m. ET 8/25/20.

Docket Numbers: ER20-924-003.

Applicants: PacifiCorp.

Description: Compliance filing: OATT Queue Reform—Compliance dated 5/12/2020 to be effective 4/1/2020.

Filed Date: 6/26/20.

Accession Number: 20200626-5174.

Comments Due: 5 p.m. ET 7/17/20.

Docket Numbers: ER20-1898-001.

Applicants: Pleinmont Solar 2, LLC.

Description: Tariff Amendment: Pleinmont Solar 2, LLC Supplemental Certificate of Concurrence with SFA to be effective 5/27/2020.

Filed Date: 6/26/20.

Accession Number: 20200626-5177.

Comments Due: 5 p.m. ET 7/17/20.

Docket Numbers: ER20-1900-001.

Applicants: Highlander Solar Energy Station 1, LLC.

Description: Tariff Amendment: Highlander Solar Energy Station 1, LLC Supp Certificate of Concurrence with SFA to be effective 5/27/2020.

Filed Date: 6/26/20.

Accession Number: 20200626-5203.

Comments Due: 5 p.m. ET 7/17/20.

Docket Numbers: ER20-2156-000.

Applicants: Midcontinent Independent System Operator, Inc.

Description: Request for Waiver Tariff Provisions, et al. of Midcontinent Independent System Operator, Inc.

Filed Date: 6/24/20.

Accession Number: 20200624-5194.

Comments Due: 5 p.m. ET 6/29/20.

Docket Numbers: ER20-2175-000.

Applicants: PJM Interconnection, L.L.C.

Description: § 205(d) Rate Filing: Original WMPA SA No. 5667; Queue No. 5667 to be effective 5/28/2020.

Filed Date: 6/25/20.

Accession Number: 20200625-5131.

Comments Due: 5 p.m. ET 7/16/20.

Docket Numbers: ER20-2176-000.

Applicants: LA3 West Baton Rouge, LLC.

Description: Baseline eTariff Filing: Application for MBR Authorization and Request for Certain Waivers, et al. to be effective 6/26/2020.

Filed Date: 6/25/20.

Accession Number: 20200625-5137.

Comments Due: 5 p.m. ET 7/16/20.

Docket Numbers: ER20-2177-000.

Applicants: Helios 5 MT, LLC.

Description: Baseline eTariff Filing: Application for MBR Authorization and Request for Certain Waivers, et al. to be effective 6/26/2020.

Filed Date: 6/25/20.

Accession Number: 20200625-5139.

Comments Due: 5 p.m. ET 7/16/20.

Docket Numbers: ER20-2179-000.

Applicants: Baldwin Wind Energy, LLC.

Description: Baseline eTariff Filing: Baldwin Wind Energy, LLC Application for MBR Authority to be effective 8/25/2020.

Filed Date: 6/25/20.

Accession Number: 20200625-5159.

Comments Due: 5 p.m. ET 7/16/20.

Docket Numbers: ER20-2180-000.

Applicants: Southwest Power Pool, Inc.

Description: § 205(d) Rate Filing: 3204R1 Evergy Missouri West & City of Rich Hill, MO Int Agr to be effective 8/25/2020.

Filed Date: 6/26/20.

Accession Number: 20200626-5069.

Comments Due: 5 p.m. ET 7/17/20.

Docket Numbers: ER20-2181-000.

Applicants: Southwest Power Pool, Inc.

Description: § 205(d) Rate Filing: 3702 KMEA and Empire District Meter Agent Agreement to be effective 6/1/2020.

Filed Date: 6/26/20.

Accession Number: 20200626-5071.

Comments Due: 5 p.m. ET 7/17/20.

Docket Numbers: ER20-2182-000.

Applicants: American Transmission Systems, Incorporated, PJM Interconnection, L.L.C.

Description: § 205(d) Rate Filing: ATSI submits Two ECSAs, SA Nos. 5640 and 5643 to be effective 8/26/2020.

Filed Date: 6/26/20.

Accession Number: 20200626-5113.

Comments Due: 5 p.m. ET 7/17/20.

Docket Numbers: ER20-2183-000.

Applicants: Mid-Atlantic Interstate Transmission, LLC, PJM Interconnection, L.L.C.

Description: § 205(d) Rate Filing: MAIT submits Four ECSA Nos. 5584, 5585, 5641 and 5642 to be effective 8/26/2020.

Filed Date: 6/26/20.

Accession Number: 20200626-5117.

Comments Due: 5 p.m. ET 7/17/20.

Docket Numbers: ER20-2184-000.

Applicants: PJM Interconnection, L.L.C.

Description: § 205(d) Rate Filing: Original WMPA SA No. 5669; Queue No. AF1-291 to be effective 5/28/2020.

Filed Date: 6/26/20.

Accession Number: 20200626-5119.

Comments Due: 5 p.m. ET 7/17/20.

Docket Numbers: ER20-2185-000.

Applicants: PJM Interconnection, L.L.C.

Description: § 205(d) Rate Filing: Second Revised ISA, SA No. 5481; Queue No. AE2-005 to be effective 5/28/2020.

Filed Date: 6/26/20.

Accession Number: 20200626-5138.

Comments Due: 5 p.m. ET 7/17/20.

Docket Numbers: ER20-2186-000.

Applicants: Fern Solar LLC.

Description: Initial rate filing: Reactive Power Tariff filing to be effective 8/1/2020.

Filed Date: 6/26/20.

Accession Number: 20200626-5140.

Comments Due: 5 p.m. ET 7/17/20.

Docket Numbers: ER20-2187-000.

Applicants: Southwest Power Pool, Inc.

Description: § 205(d) Rate Filing: 3220R1 Evergy KS Cent, ITC Great Plains & Sunflower Int Agr to be effective 8/25/2020.

Filed Date: 6/26/20.

Accession Number: 20200626-5142.

Comments Due: 5 p.m. ET 7/17/20.

Docket Numbers: ER20-2188-000.

Applicants: Southern California Edison Company.

Description: § 205(d) Rate Filing: DSA Painter Energy Storage, LLC & Cancel Letter Agreement Painter BESS to be effective 8/26/2020.

Filed Date: 6/26/20.

Accession Number: 20200626-5147.

Comments Due: 5 p.m. ET 7/17/20.

Docket Numbers: ER20-2189-000.

Applicants: Southwest Power Pool, Inc.

Description: § 205(d) Rate Filing: 2888R4 Arkansas Electric Cooperative Corp NITSA NOA to be effective 6/1/2020.

Filed Date: 6/26/20.

Accession Number: 20200626-5155.

Comments Due: 5 p.m. ET 7/17/20.

Docket Numbers: ER20-2190-000.

Applicants: Southwest Power Pool, Inc.

Description: § 205(d) Rate Filing: 3675 Doniphan Electric Cooperative Assn, Inc. NITSA NOA to be effective 6/1/2020.

Filed Date: 6/26/20.

Accession Number: 20200626-5169

Comments Due: 5 p.m. ET 7/17/20.

Docket Numbers: ER20-2191-000.

Applicants: PacifiCorp.

Description: § 205(d) Rate Filing: OATT Reconciliation (Merge Queue Reform & Order 845 Changes) to be effective 6/27/2020.

Filed Date: 6/26/20.

Accession Number: 20200626-5187.

Comments Due: 5 p.m. ET 7/17/20.

Docket Numbers: ER20-2192-000.

Applicants: Brooklyn Navy Yard Cogeneration Partners.

Description: § 205(d) Rate Filing: Category 1 Status Filing to be effective 6/30/2020.

Filed Date: 6/26/20.

Accession Number: 20200626-5196.

Comments Due: 5 p.m. ET 7/17/20.

Docket Numbers: ER20-2193-000.

Applicants: Old Dominion Electric Cooperative.

Description: § 205(d) Rate Filing: Old Dominion Electric Cooperative Superseding Cost-of-Service Rate Schedule to be effective 1/1/2021.

Filed Date: 6/26/20.

Accession Number: 20200626-5216.

Comments Due: 5 p.m. ET 7/17/20.

Docket Numbers: ER20-2194-000.

Applicants: PJM Interconnection, L.L.C.

Description: § 205(d) Rate Filing: Original WMPA, Service Agreement No. 5665; Queue No. AF1-032 to be effective 5/28/2020.

Filed Date: 6/26/20.

Accession Number: 20200626-5218.

Comments Due: 5 p.m. ET 7/17/20.

Docket Numbers: ER20-2195-000.

Applicants: Southwest Power Pool, Inc.

Description: § 205(d) Rate Filing: GridLiance High Plains Submission of Tariff Revisions for Add'l Facilities to be effective 9/1/2020.

Filed Date: 6/26/20.

Accession Number: 20200626-5222.

Comments Due: 5 p.m. ET 7/17/20.

Docket Numbers: ER20-2196-000.

Applicants: Southwest Power Pool, Inc.

Description: § 205(d) Rate Filing: 3690 GridLiance High Plains & Evergy Kansas South Int Agr to be effective 9/1/2020.

Filed Date: 6/26/20.

Accession Number: 20200626-5234.

Comments Due: 5 p.m. ET 7/17/20.

Docket Numbers: ER20-2197-000.

Applicants: Atlantic City Electric Company, PJM Interconnection, L.L.C.

Description: § 205(d) Rate Filing: ACE submits Revisions to OATT, Att. H-1A and H-1B to be effective 9/1/2020.

Filed Date: 6/26/20.

Accession Number: 20200626-5240.

Comments Due: 5 p.m. ET 7/17/20.

Docket Numbers: ER20-2198-000.

Applicants: Delmarva Power & Light Company, PJM Interconnection, L.L.C.

Description: § 205(d) Rate Filing: Delmarva submits Revisions to OATT, Att. H-3D and H-3E to be effective 9/1/2020.

Filed Date: 6/26/20.

Accession Number: 20200626-5243.

Comments Due: 5 p.m. ET 7/17/20.

Docket Numbers: ER20-2199-000.

Applicants: PJM Interconnection, L.L.C.

Description: § 205(d) Rate Filing: Original WMPA SA No. 5670; Queue No. AE2-151 to be effective 5/28/2020.

Filed Date: 6/26/20.

Accession Number: 20200626-5251.

Comments Due: 5 p.m. ET 7/17/20.

Docket Numbers: ER20-2200-000.

Applicants: Duke Energy Carolinas, LLC.

Description: § 205(d) Rate Filing: Revisions to Rate Schedule Nos. 328, 330, and 337 to be effective 6/1/2020.

Filed Date: 6/26/20.

Accession Number: 20200626-5276.

Comments Due: 5 p.m. ET 7/17/20.

Take notice that the Commission received the following electric securities filings:

Docket Numbers: ES20-46-000.

Applicants: ISO New England Inc.

Description: Application Under Section 204 of the Federal Power Act for an Order Authorizing Future Drawdowns Under Existing Authorized Securities of ISO New England Inc.

Filed Date: 6/25/20.

Accession Number: 20200625-5213.

Comments Due: 5 p.m. ET 6/30/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2020.
Nathaniel J. Davis, Sr.,
Deputy Secretary.

[FR Doc. 2020-14277 Filed 7-1-20; 8:45 am]

BILLING CODE 6717-01-P